DEPARTMENT OF THE INTERIOR

National Park Service

Final Environmental Impact Statement\General Management Plan; Ebey's Landing National Historical Reserve, Island County, Washington; Notice of Approval of Record of Decision

Summary: Pursuant to § 102(2)(C) of the National Environmental Policy Act of 1969 (Pub. L. 91-190, as amended) and the implementing regulations promulgated by the Council on Environmental Quality (40 CFR 1505.2), the Department of the Interior, National Park Service, has prepared, and the Regional Director, Pacific West Region, has approved, the Record of Decision for the new General Management Plan for Ebey's Landing National Historical Reserve. The 30-day wait period was officially initiated October 13, 2006, with the U.S. Environmental Protection Agency's Federal Register notification of the filing of the Final Environmental Impact Statement (EIS).

Decision: As soon as practicable the Reserve will begin to implement as its new General Management Plan the Preferred Alternative (with minor modifications from Alternative B as described in the Draft and Final EIS); this alternative was also deemed to be the “environmentally preferred” course of action. The selected plan features an overlay of four management zones on the Reserve: (i) Cultural and Natural Preservation Zone, (ii) Visitor Use and Development Zone, (iii) Administrative Zone, and (iv) Special Use Zone—these zones are identified based on resource condition or character, visitor experience and appropriate types of activities or facilities criteria. The new plan enhances existing programs, natural and cultural resource management, and administrative and maintenance operations. An integrated pest management program will be implemented in concert with Reserve landowners and other partners. Visitor services within the Reserve are improved, and information kiosks would be installed along State Route 20 in the Smith Prairie area and at a northern gateway location, and at the Keystone and/or Port Townsend ferry landings. The Trust Board shall continue to be responsible for setting the policies and general actions for the Reserve consistent with the Reserve's enabling legislation, GMP, and relevant NPS policies and guidelines. This includes continuing the NPS's annual appraisal of Reserve management and operations under the enabling legislation. The Trust Board would continue to oversee management and protection of lands (including fee and easements) purchased with federal money, administer programs and technical support, participate in local land use review processes, and advocate for and support the Reserve. The Reserve Manager continues to be employed by and report directly to the Trust Board (in turn, the Trust Board will conduct annual operations and staff performance reviews and submit these to the Deputy Regional Director, Pacific West).

Based upon public comments and refinements desired by the planning team collaborative, the selected plan includes several modifications from the Preferred Alternative as detailed in the Final EIS, including but not limited to: the GMP will incorporate certain historic preservation and land use protection measures which were adopted by Island County after the EIS process was begun; the development of a marine science center by nonprofits will be encouraged; proposed Reserve staff additions over the next 20 years are reduced to five. Also, since release of the draft GMP, Bell Farm was removed from the proposed boundary modification at the owner's request.

The proposed plan and three alternatives were identified and analyzed in the Final EIS, and previously in the Draft EIS (the latter was distributed in August 2005). A broad spectrum of foreseeable environmental consequences was assessed, and appropriate mitigation measures identified, for each alternative. Beginning with early scoping, through the preparation of the Draft and Final EIS, a series of public meetings and open-houses was conducted locally. Overall approximately 40 written scoping comments and 250 written or electronic Draft EIS review comments were received (as noted above, the latter served as the source of several minor adjustments to the final selected plan). Key consultations or other contacts that aided in preparing the EIS involved (but were not limited to) Island County and Town of Coupeville officials, Ebey's Landing Trust Board, Washington State Historic Preservation Office, the Advisory Council on Historic Preservation, U.S. Fish and Wildlife Service, National Marine Fisheries Service, tribal governments, and adjoining land managing agencies. Local community groups and neighbors, farmers and local business owners, and interested organizations were contacted extensively during initial scoping and throughout the GMP planning process.

Copies: Interested parties desiring to review the Record of Decision may obtain a complete copy by contacting the Reserve Manager, Ebey's Landing National Historical Reserve, P.O. Box 774, Coupeville, Washington 98239 as well as via telephone request at (360) 678-6084.

Dated: December 13, 2006.
Patricia L. Neubacher,
Acting Regional Director, Pacific West Region.

[FR Doc. 07-877 Filed 2-26-07; 8:45 am]

BILLING CODE 4312-6W-M